DEPARTMENT OF COMMERCE

National Oceanic and Atmospheric Administration

RIN: 0648-XR55

Pacific Fishery Management Council; Public Meetings

AGENCY: National Marine Fisheries Service (NMFS), National Oceanic and Atmospheric Administration (NOAA), Commerce.

ACTION: Notice of a public meeting.

SUMMARY: A public meeting of the Pacific Fishery Management Council's (Council) Scientific and Statistical Committee (SSC) Groundfish Subcommittee will be held to review new rebuilding analyses for eight west coast groundfish species. This meeting is a work session which is open to the public.

DATES: The SSC Groundfish Subcommittee meeting to review new groundfish rebuilding analyses will be held beginning at 9 a.m., Wednesday, September 30, 2009 and will end at 5:30 p.m. or as necessary to complete business. The meeting will reconvene at 9 a.m., Thursday, October 1, 2009 and will end at 5:30 p.m. or as necessary to complete business.

ADDRESSES: The SSC Groundfish Subcommittee meeting will be held at the National Oceanic and Atmospheric Administration (NOAA) Western Regional Center's Sand Point Facility, Alaska Fisheries Science Center, Observer Training Room 1055, 7600 Sand Point Way N.E., Seattle, WA 98115-6349; telephone: (206) 526-4000.

Council address: Pacific Fishery Management Council, 7700 NE Ambassador Place, Suite 101, Portland, OR 97220-1384.

FOR FURTHER INFORMATION CONTACT: Mr. John DeVore, Pacific Fishery Management Council; telephone: (503) 820-2280.

SUPPLEMENTARY INFORMATION: The purpose of the SSC Groundfish Subcommittee meeting is to review new draft rebuilding analyses for bocaccio, canary rockfish, cowcod, darkblotched rockfish, Pacific ocean perch, widow rockfish, yelloweye rockfish, and petrale sole and any other pertinent information, work with the Stock Assessment Teams to make necessary revisions, and ultimately produce an SSC report for use by the Council family and other interested persons. These new rebuilding analyses will be used to analyze 2011-12 harvest specifications for these species and to develop or modify rebuilding plans for these species.

No management actions will be decided at this SSC Groundfish Subcommittee meeting. The SSC Groundfish Subcommittees' role will be development of recommendations and reports for consideration by the SSC and the Council at its November meeting in Costa Mesa, CA.

Entry to the NOAA Western Regional Center's Sand Point Facility requires visitors to show a valid picture ID and register with security. A visitor's badge, which must be worn while at the NOAA Western Regional Center's Facility, will be issued to non-Federal employees participating in the meeting.

Although non-emergency issues not contained in the meeting agendas may come before the meeting participants for discussion, those issues may not be the subject of formal action during these meetings. SSC Groundfish Subcommittee action will be restricted to those issues specifically listed in this notice and any issues arising after publication of this notice that require emergency action under Section 305(c) of the Magnuson-Stevens Fishery Conservation and Management Act, provided the public has been notified of the meeting participants' intent to take final action to address the emergency.

Special Accommodations

This meeting is physically accessible to people with disabilities. Requests for sign language interpretation or other auxiliary aids should be directed to Ms. Carolyn Porter at (503) 820-2280 at least 5 days prior to the meeting date.

Dated: September 8, 2009.
Tracey L. Thompson,
Acting Director, Office of Sustainable Fisheries, National Marine Fisheries Service.

[FR Doc. E9-21937 Filed 9-10-09; 8:45 am]

BILLING CODE 3510-22-S